DEPARTMENT OF JUSTICE

Drug Enforcement Administration

Importation of Controlled Substances; Notice of Application Correction

In the Federal Register (FR Doc. 00-30294) Vol. 65, No. 229 at page 70936, dated November 28, 2000, Cerilliant Corporation, 14050 Summit Drive, Suite 121, PO Box 80189, Austin, Texas 78708-0189, made application to the Drug Enforcement Administration to be registered as an importer for certain basic classes of controlled substances.

The listing of controlled substance should not have included marihuana (7350) or tilidine (9750). Therefore, the above listed controlled substances are hereby deleted from Cerilliant Corporation's application for registration as an importer.

The listing of controlled substance should have included etorphine (9056). Therefore, etorphine (9056) is hereby added to Cerilliant Corporation's application for registration as an importer.

The firm plans to import small quantities of the listed controlled substance for the manufacture of analytical reference standards.

Any manufacturer holding, or applying for, registration as a bulk manufacturer of this basic class of controlled substance may file written comments on or objections to the application described above and may, at the same time, file a written request for a hearing on such application in accordance with 21 CFR 1301.43 in such form as prescribed by 21 CFR 1316.47.

Any such comments, objections or requests for a hearing may be addressed, in quintuplicate, to the Deputy Assistant Administrator, Office of Diversion Control, Drug Enforcement Administration, United States Department of Justice, Washington, DC 20537, Attention: DEA Federal Register Representative (CCR), and must be filed no later than (30 days from publication).

This procedure is to be conducted simultaneously with and independent of the procedures described in 21 CFR 1301.34(b), (c), (d), (e), and (f). As noted in a previous notice at 40 FR 43745-46 (September 23, 1975), all applicants for registration to import the basic class of any controlled substance in Schedule I or II are and will continue to be required to demonstrate to the Deputy Assistant Administrator, Office of Diversion Control, Drug Enforcement Administration that the requirements for such registration pursuant to 21 U.S.C. 958(a), 21 U.S.C. 823(a), and 21 CFR 1301.34(a), (b), (c), (d), (e), and (f) are satisfied.

Dated: December 14, 2000.
John H. King,
Deputy Assistant Administrator, Office of Diversion Control, Drug Enforcement Administration.

[FR Doc. 01-758 Filed 1-9-01; 8:45 am]

BILLING CODE 4410-09-M